DEPARTMENT OF ENERGY

Federal Energy Regulatory Commission

[Docket No. CP06-64-000]

Central New York Oil and Gas Company, L.L.C; Notice of Availability of the Environmental Assessment for the Proposed Stagecoach Phase II Expansion Project

July 28, 2006.

The staff of the Federal Energy Regulatory Commission (FERC or Commission) has prepared an environmental assessment (EA) on the natural gas pipeline facilities proposed by Central New York Oil and Gas Company, L.L.C. (CNYOG) in the above-referenced dockets.

The EA was prepared to satisfy the requirements of the National Environmental Policy Act. The staff concludes that approval of the proposed project, with appropriate mitigating measures, would not constitute a major Federal action significantly affecting the quality of the human environment.

The EA assesses the potential environmental effects of the construction and operation of CNYOG's proposed underground gas storage facilities and associated pipeline facilities. The proposed project is associated with CNYOG's existing Stagecoach Storage Project which has been in operation since 2002 and has a working storage capacity of 13.25 billion cubic feet (Bcf). The Stagecoach Phase II Expansion Project would convert four existing natural gas production fields that are nearly depleted into storage reservoirs in Bradford County, Pennsylvania and Tioga County, New York. The facilities required by the project would include: An additional 12,000-horsepower electric-drive centrifugal compressor unit; eight storage injection/withdrawal wells; approximately 6.7 miles of 6-inch- and 20-inch-diameter gathering pipeline and associated rights-of-way; eight wellhead meter stations and other appurtenant facilities, including isolation valves, separators, measurement and communication equipment; about 4.4 miles of access roads not contained within pipeline or well easements; and a 9.3-mile-long, 20-inch-diameter lateral (North Lateral) from the existing compressor station to the proposed Millennium Pipeline located north of the town of Owego, New York.¹

¹ The Millennium Pipeline Project was approved by the Commission on September 19, 2002 in Docket Nos. CP98-150-000. Construction of the Millennium Pipeline has not commenced to date, and Millennium Piepline L.P. is currently seeking Commission approval for design and route changes to its project in Docket Nos. CP98-150-006 and CP98-150-007.

The purpose of the project is to support increased demand for natural gas service in the northeast United States. The connection and integration of the additional reservoirs would essentially double the working storage capacity of the Stagecoach Facility from 13.25 Bcf to about 26.25 Bcf. The increase in storage capacity is expected to extend the facility's capability to handle withdrawals at a maximum rate of 500,000 million cubic feet (Mcf)/day from the existing level of 12 consecutive days to 20 consecutive days.

The EA has been placed in the public files of the FERC. A limited number of copies of the EA are available for distribution and public inspection at: Federal Energy Regulatory Commission, Public Reference Room, 888 First Street, NE., Room 2A, Washington, DC 20426, (202) 502-8371.

Copies of the EA have been mailed to Federal, State and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Reference Docket No. CP06-64-000;

• Label one copy of the comments for the attention of the Gas Branch 1, PJ-11.1; and

• Mail your comments so that they will be received in Washington, DC on or before August 28, 2006.

Please note that the Commission strongly encourages electronic filing of any comments or interventions or protests to this proceeding. See 18 CFR 385.2001(a)(1)(iii) and the instructions on the Commission's Web site at http://www.ferc.gov under the “e-Filing” link and the link to the User's Guide. Before you can file comments you will need to create an account which can be created on-line.

Comments will be considered by the Commission but will not serve to make the commentor a party to the proceeding. Any person seeking to become a party to the proceeding must file a motion to intervene pursuant to Rule 214 of the Commission's Rules of Practice and Procedures (18 CFR 385.214).² Only intervenors have the right to seek rehearing of the Commission's decision.

² Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Magalie R. Salas,
Secretary.

[FR Doc. E6-12712 Filed 8-4-06; 8:45 am]

BILLING CODE 6450-01-P